DEPARTMENT OF COMMERCE

National Oceanic and Atmospheric Administration

RIN 0648-XE35

Marine Mammals; File No. 859-1680

AGENCY: National Marine Fisheries Service (NMFS), National Oceanic and Atmospheric Administration (NOAA), Commerce.

ACTION: Notice; issuance of permit amendment.

SUMMARY: Notice is hereby given that the United States Air Force, Environmental Management Office, Vandenberg Air Force Base, California, has been issued an amendment to Scientific Research Permit No. 859-1680, for research on California sea lions (Zalophus californianus), northern elephant seals (Mirounga angustirostris), northern fur seals (Callorhinus ursinus), and Pacific harbor seals (Phoca vitulina richardsi) inhabiting Vandenberg Air Force Base and the northern Channel Islands, California.

ADDRESSES: The amendment and related documents are available for review upon written request or by appointment in the following office(s):

Permits, Conservation and Education Division, Office of Protected Resources, NMFS, 1315 East-West Highway, Room 13705, Silver Spring, MD 20910; phone (301)713-2289; fax (301)427-2521.

FOR FURTHER INFORMATION CONTACT: Tammy Adams or Kate Swails, (301)713-2289.

SUPPLEMENTARY INFORMATION: The original permit was issued on February 3, 2003 (68 FR 6419), with an expiration date of January 1, 2008. The requested amendment has been granted under the authority of the Marine Mammal Protection Act of 1972, as amended (16 U.S.C. 1361 et seq.), and the regulations governing the taking and importing of marine mammals (50 CFR part 216).

The amendment extends the duration of the permit by 12 months beyond that established in the original permit. No other terms or conditions of the permit were changed.

In compliance with the National Environmental Policy Act of 1969 (42 U.S.C. 4321 et seq.), a final determination has been made that the activity proposed is categorically excluded from the requirement to prepare an environmental assessment or environmental impact statement.

Dated: December 11, 2007.
Tammy C. Adams,
Acting Chief, Permits, Conservation and Education Division, Office of Protected Resources, National Marine Fisheries Service.

[FR Doc. E7-24504 Filed 12-17-07; 8:45 am]

BILLING CODE 3510-22-S